DEPARTMENT OF COMMERCE

National Oceanic and Atmospheric Administration

50 CFR Parts 679 and 680

[Docket No. 040831251-5138-04; I.D. 082504A]

RIN 0648-AS47

Fisheries of the Exclusive Economic Zone Off Alaska; Allocating Bering Sea and Aleutian Islands King and Tanner Crab Fishery Resources; Correction

AGENCY: National Marine Fisheries Service (NMFS), National Oceanic and Atmospheric Administration (NOAA), Commerce.

ACTION: Final rule; correcting amendment.

SUMMARY: NMFS issues this final rule, correcting amendment to the regulations governing the Bering Sea and Aleutian Islands crab fisheries. This action is necessary to clarify procedures and to correct discrepancies provided in a previous rulemaking. This final rule is intended to promote the goals and objectives of the Fishery Management Plan for Bering Sea/Aleutian Islands (BSAI) King and Tanner Crabs (FMP), the Magnuson-Stevens Fishery Conservation and Management Act (Magnuson-Stevens Act), and other applicable law.

DATES: Effective April 1, 2005.

FOR FURTHER INFORMATION CONTACT: Patsy A. Bearden, 907-586-7008 or patsy.bearden@noaa.gov.

SUPPLEMENTARY INFORMATION:

Background

In January 2004, the U.S. Congress amended section 313(j) of the Magnuson-Stevens Act through the Consolidated Appropriations Act of 2004 (Pub. L. 108-199, section 801). As amended, section 313(j)(1) requires the Secretary of Commerce to approve and implement by regulation the Crab Rationalization Program (Program), as it was approved by the North Pacific Fishery Management Council (Council) between June 2002 and April 2003, and all trailing amendments, including those reported to Congress on May 6, 2003. In June 2004, the Council consolidated its actions on the Program into the Council motion, which is contained in its entirety in Amendment 18. Additionally, in June 2004, the Council developed Amendment 19, which represents minor changes necessary to implement the Program. The Notice of Availability for these amendments was published in the Federal Register on September 1, 2004 (69 FR 53397). NMFS published a proposed rule to implement Amendments 18 and 19 on October 29, 2004 (69 FR 63200). NMFS approved Amendments 18 and 19 on November 19, 2004. NMFS published a final rule to implement Amendments 18 and 19 on March 2, 2005 (70 FR 10174). NMFS also published a final rule (March 18, 2005; 70 FR 13097) to correct OMB control numbers provided in the final rule dated March 2, 2005 (70 FR 10174).

Need for Corrections

NOAA seeks to ensure the final rule (March 2, 2005; 70 FR 10174) conforms to the statutory requirements and intent of the Program, to provide clarification regarding the Program's regulatory requirements, and to correct minor technical errors.

1. Statutory Conformance Corrections

These corrections are made to sections of the rule that do not currently conform to the statutory requirements of the Program. Some of the dates specified in the final rule for qualifying years and eligibility years were incorrect. This correction ensures that the final rule conforms to statutory requirements.

Table 7 to Part 680

For the Bristol Bay red king crab (BBR) Quota Share (QS) fishery, the participation seasons for Catcher Vessel Crew (CVC) and Catcher/processor Crew (CPC) QS are corrected by adding the year 1999 and removing the year 2002. On page 10293, row 1 (BBR), column D, paragraph (3) is removed. On page 10293, row 1 (BBR), column D, paragraph (2) is redesignated as paragraph (3), “October 15, 2001 through October 18, 2001.” On page 10293, row 1 (BBR), column D, paragraph (1) is redesignated as paragraph (2), “October 16, 2000 through October 20, 2000.” On page 10293, row 1 (BBR), column D, a new paragraph (1) is added, “October 15, 1999 through October 20, 1999.”

For the Bering Sea snow crab (BSS) QS fishery, the 1998 qualifying year for QS and the 1998 eligibility year for CVC and CPC QS are corrected. On page 10293, row 2 (BSS), columns B and C, paragraphs (3) are amended by removing “March 21, 1998” and adding in its place “March 20, 1998.”

For the Bering Sea Tanner crab (BST) QS fishery, the qualifying years for CVC and CPC QS are corrected. The 1991/1992 year was inadvertently omitted from the qualifying years and is added by this rule. The year November 1, 1993 through November 10, 1993 is combined with the year November 20, 1993 through January 1, 1994. On page 10293, row 3 (BST), column B, paragraphs (2) and (3) are combined as new paragraph (3), “November 1, 1993 through November 10, 1993, and November 20, 1993 through January 1, 1994.” On page 10293, row 3 (BST), column B, paragraph (1) is redesignated as paragraph (2), “November 15, 1992 through March 31, 1993.” On page 10293, row 3 (BST), column B, new paragraph (1) is added, “November 15, 1991 through March 31, 1992.” This date was inadvertently omitted in the final rule.

For the Eastern Aleutian Islands golden king crab QS fishery (EAG), the date for the 2000 eligibility year for CVC and CPC QS is corrected. On page 10294, row 4 (EAG), column C, paragraph (5) is amended by removing “September 25, 2000” and adding in its place “September 24, 2000.”

For the Western Aleutian Islands golden king crab QS fishery (WAG), the date for the 1997/1998 qualifying year for QS, the date for the 2000/2001 qualifying year for QS, 2000/2001 eligibility year for CVC and CPC QS, and the 2000/2001 recent participation season for CVC and CPC QS are corrected. On page 10294, row 7 (WAG), column B, paragraph (2) is amended by removing “August 21, 1998” and adding in its place “August 31, 1998.” On page 10294, row 7 (WAG), columns B and C, paragraphs (5) and column D, paragraph (2), are amended by removing “March 28, 2001” and adding in its place “May 28, 2001.”

For the Western Aleutian Islands red king crab QS fishery (WAI), the date for the 1993/1994 eligibility year for CVC and CPC QS is corrected and two typographical errors are corrected. On page 10295, row 8 (WAI), column C, paragraph (2) is amended by removing “November 1, 1995” and adding in its place “November 1, 1993.” On page 10295, row 8 (WAI), column C, the introductory paragraph is amended by removing a duplicate paragraph “3 of the 4 seaons beginning on:” On page 10295, row 8 (WAI), column D, the introductory paragraph is amended by removing “fishiers” and adding in its place “fisheries.”

Table 9 to Part 680

For the Bering Sea Tanner crab QS fishery (BSS), the date of the 1998 initial issuance of crab PQS is corrected. On page 10295, row 2 Bering Sea snow crab (BSS), column B, season (2) is amended by removing “March 21, 1998” and adding in its place “March 20, 1998.”

2. Regulatory Intent Corrections and Clarifications

These corrections are clarifications that explain regulatory changes that are more substantive than typographical/editorial type corrections.

Preamble, Western Alaska Community Development Quota (CDQ) Program

Wording in the preamble of the proposed rule (69 FR 63200) regarding crab issues in the CDQ Program was correct. However, in two places, wording in the final rule regarding these same issues was inadvertently changed from “IFQ” to read “quotas” and “quota.” This rule corrects those two errors.

On page 10176, column 3, 21 lines after the heading, Community Development Quota Program and Community Allocations, replace “when IFQ have been reached” with “when quotas have been reached.”

On page 10176, column 3, 22 lines after the heading, Community Development Quota Program and Community Allocations, remove “associated with IFQ overages” and replace it with “associated with quota overages.”

Section 680.6 Crab Economic Data Report (EDR)

Section 680.6 is corrected by removing the phrase “whether OUR CRAB or THEIR CRAB” to remove potential double counting activities during custom processing. This phrase was removed from the EDRs, but inadvertently was not removed from the regulations. The phrase “whether OUR CRAB or THEIR CRAB” is removed at the following locations:

On page 10253, column 3, paragraph 680.6(c)(5)(xii);

On page 10255, column 1, paragraph 680.6(d)(4)(xii);

On page 10256, column 3, paragraph 680.6(e)(5)(ix);

On page 10257, column 3, paragraph 680.6(f)(4)(ix);

On page 10259, column 2, paragraph 680.6(g)(5)(ix); and

On page 10260, column 1, paragraph 680.6(h)(4)(ix).

On page 10260, column 1, paragraph 680.6(h)(4)(viii) is amended by removing “over all vessel activities” and adding in its place “over all plant activities.”

Section 680.7 Prohibitions

On page 10261, column 1, paragraphs 680.7(e)(3) and (e)(4) are removed. Paragraph (e)(3) prohibits the receipt of Class B IFQ by transfer if a person holds PQS or IPQ. Paragraph (e)(4) prohibits the receipt of Class B IFQ by transfer if you are affiliated with a person who holds PQS or IPQ. At page 10186, column 1, 3rd full paragraph, halfway down, the clear intent of NMFS is to allow this same receipt of Class B IFQ by transfer. “The Annual Application for IFQ or IPQ” requires each applicant to annually submit their affidavit and provides a reasonable assurance that if affiliation were to change in mid-season, those changes will be reflected in the affidavit for the following year. NMFS established a time period from shortly after the annual application is due until IFQ and IPQ is issued in which no transfers of IFQ or IPQ will be approved (see paragraph 680.41(b)(4)). This will provide NMFS with time to review the affiliation information, determine the amount of Class A IFQ and Class B IFQ to be issued to each IFQ holder, and to issue that IFQ and IPQ. Once issued, transfers could occur that could result in Class B IFQ being transferred to IPQ holders or their affiliates. Because NMFS is modifying the way in which Class A IFQ and Class B IFQ is allocated to PQS or IPQ holders and their affiliates, this would be permitted.

Section 680.21 Crab Harvesting Cooperatives

In the proposed rule, paragraph 680.21(f)(1) stated that “transfers of QS that occur after the June 30 deadline” . . . “will not be reflected in the type or amount of IFQ permit issued to the

cooperative for the subsequent fishing season.” A new crab fishing year begins each July 1; therefore this paragraph speaks to the next fishing season. This text was revised in the final rule, paragraph 680.21(d)(1) to state that “transfers of QS that occur after the August 1 deadline” . . . “will not be reflected in the type or amount of IFQ permit issued to the crab harvesting cooperative for the subsequent fishing season.” When the date changed from June 30 to August 1, the term “subsequent” inadvertently was not changed to read “current,” to reflect that a new fishing year had begun. On page 10269, column 1, paragraph 680.21(d)(1) is amended by removing “subsequent fishing season” and adding in its place “current fishing season.”

Section 680.40 Quota Share (QS), Processor QS (PQS), Individual Fishing Quota (IFQ), and Individual Processor Quota (IPQ) Issuance

NMFS is removing a 60 day notification deadline at Section 680.40(f)(3)(i). These regulations require that an application for PQS based on legal processing that occurred in an Eligible Crab Community (ECC), other than Adak, must include an affidavit signed by the applicant stating that notice has been provided to the ECC of the applicant's intent to apply for PQS 60 days prior to the end of the application period for receiving PQS or QS. The requirement that this notice be provided to the ECC 60 days prior to the end of the application period is being removed. The application period was specified in the Federal Register on March 8, 2004 (70 FR 11194). The application period ends on June 3, 2005. The date 60 days prior to the end of the application period is April 4, 2005.

NMFS is removing a similar 60 day notification deadline at Section 680.40(f)(3)(ii). These regulations require that an application for PQS based on legal processing that occurred in the Gulf of Alaska north of a line at 56°20′ N. lat. must include an affidavit signed by the applicant stating that notice has been provided to the City of Kodiak and Kodiak Island Borough of the applicant's intent to apply for PQS 60 days prior to the end of the application period for receiving PQS or QS. The requirement that this notification must have been provided to the ECC 60 days prior to the end of the application period is being removed.

The notification deadline was intended to ensure that potential PQS holders contacted ECCs in a timely fashion so that right of first refusal contracts specified under section 313(j) of the Magnuson-Stevens Act could be completed among the ECC entities selected by the ECCs and PQS holders prior to the end of the application period and the issuance of PQS. This deadline would unduly restrict potential PQS holders and contravenes the Magnuson-Stevens Act as amended by Congress in the Consolidated Appropriations Act of 2004 (Pub. L. No. 108-199). The 60- day deadline provided in the final rule is not specified in the Magnuson-Stevens Act amendment and nothing in that amendment would limit the ability of potential PQS holders to receive PQS if notice of the intent to apply for PQS is not provided. This notification deadline was not intended to serve as a mechanism to preclude the ability of potential PQS holders to receive PQS if they did not meet the notification deadline. This correction must be made prior to the end of the application period (June 3, 2005).

Section 680.42 Limitations on Use of QS, PQS, IFQ, and IPQ

Under the final rule regulatory text, NMFS is concerned that the use caps could be interpreted in a way that could allow substantially more consolidation than the Council intended, and more specifically, it is not consistent with the preamble language where NMFS makes a specific reference to affiliation. This final rule corrects the wording to be more specific. On page 10288, column 2, paragraph 680.42(a)(4)(iii) is amended by removing “A non-individual person that holds PQS would be limited to a QS and IFQ cap that would be calculated based on the sum of all QS or IFQ held by that PQS holder and all QS or IFQ held by any entity in which that PQS holder has a 10 percent or greater direct or indirect ownership interest.” and adding in its place “A non-individual person that holds PQS, and all affiliates of that person, is limited to a QS and IFQ use cap that is calculated based on the sum of all QS or IFQ held by that PQS holder and all QS or IFQ held by any affiliate of the PQS holder.”

On page 10288, column 3, paragraph 680.42(b)(3)(iii) is amended by removing “A person that holds PQS would be limited to a PQS use cap that would be calculated based on the sum of all PQS held by that PQS holder and all PQS held by any entity in which that PQS holder has a 10 percent or greater direct or indirect ownership interest.” and adding in its place “A person that holds PQS is limited to a PQS use cap that is calculated based on the sum of all PQS held by that PQS holder and all PQS held by any affiliate of the PQS holder.”

On page 10288, column 3, paragraph 680.42(b)(3)(iv) is amended by removing “A person that holds IPQ would be limited to an IPQ use cap that would be calculated based on the sum of all IPQ held by that IPQ holder and all IPQ held by any entity in which that IPQ holder has a 10 percent or greater direct or indirect ownership interest.” and adding in its place “A person that holds IPQ is limited to an IPQ use cap that is calculated based on the sum of all IPQ held by that IPQ holder and all IPQ held by any affiliate of the IPQ holder.”

3. Technical Corrections

The following typographical and editorial corrections are made in this rule.

Table 14a to Part 679

On page 10239, the ADF&G code for “Other Alaska” is amended by removing “UNK” and adding in its place “OAK.”

Table 14b to Part 679

On page 10239, the NMFS code for “Other California” is amended by removing “1599” and adding in its place “599.”

Table 7 to Part 680

On page 10294, column D, row 6, a “period” is added after the last word “fisheries.”

Section 680.5 Recordkeeping and Reporting (R&R)

On page 10247, paragraph 680.5(a)(2)(i)(H) is amended by removing the reference to “§ 680.5(d)” and adding in its place “§ 680.5(e).”

On page 10247, paragraph 680.5(a)(2)(i)(I) is amended by removing the reference to “§ 680.5(e)” and adding in its place “§ 680.5(f).”

On page 10247, paragraph 680.5(a)(2)(i)(J) is amended by removing the reference to “§ 680.5(f)” and adding in its place “§ 680.5(g).”

On page 10247, column 2, paragraph 680.5(b)(4) is amended by removing reference to “paragraphs (c)(7), (c)(8), or (c)(9)” and adding in its place “paragraphs (d)(7), (d)(8), or (d)(9).”

On page 10248, column 2, paragraphs 680.5(d)(5) and (d)(6) are amended by removing reference to “paragraph (b)(5)” and adding in its place “paragraph (b)(7).”

On page 10248, column 2, paragraph 680.5(d)(7) is amended by removing reference to “paragraph (c)(11)” and adding in its place “paragraph (d)(9).”

On page 10248, column 2, paragraph 680.5(d)(8) is amended by removing reference to “paragraph (c)(7)” and adding in its place “paragraph (d)(7).”

On page 10248, column 3, paragraph 680.5(d)(9) is amended by removing reference to “paragraph (c)(7)” and adding in its place “paragraph (d)(7).”

Section 680.7 Prohibitions

On page 10260, column 3, paragraph 680.7(c)(1) is amended by removing “BSAI crab” and adding in its place “CR crab.”

On page 10260, column 3, paragraph 680.7(c)(2) is amended by removing “IFQ crab” and adding in its place “CR crab.”

Section 680.20 Arbitration System

On page 10267, column 1, paragraph 680.20(h)(4)(iv) is amended by removing “would be” and adding in its place “will be.”

Section 680.23 Equipment and Operational Requirements

On page 10273, column 3, paragraph 680.23(g)(5)(iv) is amended by removing “paragraph (e)(3)” and adding in its place “paragraph (f)(3).”

Section 680.40 Quota Share (QS), Processor QS (PQS), Individual Fishing Quota (IFQ), and Individual Processor Quota (IPQ) Issuance

On page 10281, column 1, paragraph 680.40(h)(4) is amended by removing “would be” and adding in its place “will be.”

On page 10281, column 2, paragraph 680.40(h)(5) is amended by removing “would be” and adding in its place “will be.”

Section 680.42 Limitations on Use of QS, PQS, IFQ, and IPQ

On page 10287, column 3, paragraph 680.42(a)(2) is amended by removing reference to “(b)(1)(ii)” and adding in its place “(a)(1)(ii).”

On page 10287, column 3, paragraph 680.42(a)(2) is amended by removing reference to “(b)(3)” and adding in its place “(a)(3).”

On page 10288, column 2, paragraph 680.42(a)(5) is amended by removing reference to “paragraph (b)” and adding in its place “paragraph (a).”

4. Correction to Information About OMB Control Number 0648-0518

Incorrect burden estimates for 4 of the Economic Data Reports (EDRs) were provided in the final rule, although the correct burden estimates are given in the individual EDRs and in the PRA support statement. On page 10231, column 3, the EDR burden estimates are corrected as follows: remove 25 hours for Catcher processor annual EDR and replace it with 12.5 hours; remove 15 hours for Catcher vessel annual EDR and replace it with 7.5 hours; remove duplicate phrase “15 hours for Catcher vessel annual EDR;” remove 15 hours for the Stationary crab floating processor historical EDR and replace it with 20 hours; remove 15 hours for the Stationary crab floating processor annual EDR and replace it with 10 hours; remove 15 hours for Shoreside crab processor historical EDR and replace it with 20 hours. and remove 15 hours for Shoreside crab processor annual EDR and replace it with 10 hours.

Classification

The Administrator, Alaska Region, NMFS (Regional Administrator), has determined that this final rule is necessary for the conservation and management of the BSAI crab fisheries. The Regional Administrator also has determined that this final rule is consistent with the Magnuson-Stevens Act and other applicable laws.

This final rule has been determined to be not significant for the purposes of Executive Order 12866.

Because prior notice and opportunity for public comment are not required for this rule by 5 U.S.C. 553, or any other law, the analytical requirements of the Regulatory Flexibility Act, 5 U.S.C. 601 et seq., are inapplicable.

Pursuant to 5 U.S.C.553(b)(B), the Assistant Administrator for Fisheries, NOAA (AA) finds good cause to waive prior notice and an opportunity for public comment on this action, as notice and comment would be impracticable, unnecessary, and contrary to the public interest. Through this action, NOAA seeks to ensure that the final rule conforms to the statutory requirements and intent of the Program, provide clarification regarding the Program's regulatory requirements and correct minor technical errors. Prior notice and an opportunity for public comment on this action would be impracticable, unnecessary, and contrary to the public interest for the following reasons. First, corrections to ensure the rule's conformance with the Program's statutory requirements are non-discretionary. As such, prior notice and an opportunity for public comment are unnecessary as the agency has no choice but to ensure its regulations are consistent with the statute. Second, corrections and clarifications to ensure the rule's compliance with the intent of the Program must be made immediately in order to provide the regulated community with adequate and accurate information to, among other things, apply for participation in the Program prior to the closing of the application date (June 3, 2005). Prior notice and an opportunity for public comment on these measures are impracticable and contrary to the public interest because the time necessary to provide such procedures would lead to the realization of the very harm sought to be avoided by this rule. In contrast, waiving those procedures does not affect the eligibility of those otherwise eligible under the regulations as originally promulgated and ensures that all parties who might be eligible are aware of that fact prior to the close of the application period. Finally, the editorial changes made by this rule are non-substantive. As a result, prior notice and an opportunity for comment on these changes are unnecessary.

The non-substantive changes made by this rule are not subject to the 30-day delay in effective date requirement of 5 U.S.C. 553(d). With respect to those substantive changes made by this rule, the AA also finds good cause to waive the 30-day delay in the effective date of under 5 U.S.C. 553(d)(3). The waiver of the 30-day delay in effective date requirement of 5 U.S.C. 553(d) is necessary to provide the regulated community with timely, adequate and accurate information to, among other things, apply for participation in the program prior to the closing of the application date (June 3, 2005). A 30-day delay in the effective date of this notice would lead to the realization of the very harm sought to avoided by this rule. Waiving the 30-day delay in effective date requirement does not effect the eligibility of those otherwise eligible under the regulations as originally promulgated and ensures all parties who might be eligible are aware of that fact prior to the close of the application period.

List of Subjects in 50 CFR Parts 679 and 680

Alaska, Fisheries, Reporting and recordkeeping requirements.

Dated: May 27, 2005.
William T. Hogarth,
Assistant Administrator for Fisheries, National Marine Fisheries Service.

For the reasons discussed in the preamble, 50 CFR parts 679 and 680 are corrected by making the following correcting amendments:

PART 679—FISHERIES OF THE EXCLUSIVE ECONOMIC ZONE OFF ALASKA

1. The authority citation for part 679 continues to read as follows:

Authority: 16 U.S.C. 773 et seq., 1801 et seq., and 3631 et seq.; Title II of Division C, Pub. L. 105-277; Sec. 3027, Pub. L. 106-31, 113 Stat. 57; 16 U.S.C. 1540(f).

2. In part 679, revise Table 14a to Part 679 to read as follows:

Table 14a to Part 679—Port of Landing Codes¹: Alaska
Port Name | NMFS Code | ADF&G Code
Adak | 186 | ADA
Akutan, Akutan Bay | 101 | AKU
Alitak | 103 | ALI
Anchorage | 105 | ANC
Angoon | 106 | ANG
Aniak | 300 | ANI
Anvik | 301 | ANV
Atka | 107 | ATK
Auke Bay | 136 | JNU
Beaver Inlet | 119 | DUT
Bethel | 302 | BET
Captains Bay | 119 | DUT
Chefornak | 189 | CHF
Chignik | 113 | CHG
Cordova | 115 | COR
Craig | 116 | CRG
Dillingham | 117 | DIL
Douglas | 136 | JNU
Dutch Harbor/Unalaska | 119 | DUT
Egegik | 122 | EGE
Ekuk | 303 | EKU
Elfin Cove | 123 | ELF
Emmonak | 304 | EMM
Excursion Inlet | 124 | XIP
False Pass | 125 | FSP
Fairbanks | 305 | FBK
Galena | 306 | GAL
Glacier Bay | 307 | GLB
Glennallen | 308 | GLN
Gustavus | 127 | GUS
Haines | 128 | HNS
Halibut Cove | 130 | HBC
Homer | 132 | HOM
Hoonah | 133 | HNH
Hydaburg | 309 | HYD
Hyder | 134 | HDR
Juneau | 136 | JNU
Kake | 137 | KAK
Kaltag | 310 | KAL
Kasilof | 138 | KAS
Kenai | 139 | KEN
Kenai River | 139 | KEN
Ketchikan | 141 | KTN
King Cove | 142 | KCO
King Salmon | 143 | KNG
Kipnuk | 144 | KIP
Klawock | 145 | KLA
Kodiak | 146 | KOD
Kotzebue | 311 | KOT
Mekoryuk | 147 | MEK
Metlakatla | 148 | MET
Moser Bay | 312 | MOS
Naknek | 149 | NAK
Nenana | 313 | NEN
Nikiski (or Nikishka) | 150 | NIK
Ninilchik | 151 | NIN
Nome | 152 | NOM
Nunivak Island | 314 | NUN
Old Harbor | 153 | OLD
Other Alaska¹ | 499 | OAK
Pelican | 155 | PEL
Petersburg | 156 | PBG
Port Alexander | 158 | PAL
Port Armstrong | 315 | PTA
Port Bailey | 159 | PTB
Port Graham | 160 | GRM
Port Lions | 316 | LIO
Port Moller | 317 | MOL
Port Protection | 161 | PRO
Quinhagak | 187 | QUK
Sand Point | 164 | SPT
Savoonga | 165 | SAV
Selawik | 326 | SWK
Seldovia | 166 | SEL
Seward | 167 | SEW
Sitka | 168 | SIT
Skagway | 169 | SKG
Soldotna | 318 | SOL
St. George | 170 | STG
St. Mary | 319 | STM
St. Paul | 172 | STP
Tee Harbor | 136 | JNU
Tenakee Springs | 174 | TEN
Togiak | 176 | TOG
Toksook Bay | 177 | TOB
Tununak | 178 | TUN
Ugashik | 320 | UGA
Unalakleet | 321 | UNA
Valdez | 181 | VAL
Wasilla | 322 | WAS
Whittier | 183 | WHT
Wrangell | 184 | WRN
Yakutat | 185 | YAK
¹To report a landing at a location not currently assigned a location code number, use the code for “Other Alaska” code “499” or “OAK.”

3. In part 679, revise Table 14b to Part 679 to read as follows:

Table 14b to Part 679—Port of Landing Codes: Non-Alaska (California, Canada, Oregon, Washington)
Port State or Country | Port Name | NMFS Code | ADF&G Code
CALIFORNIA | Eureka | 500 | EUR
| Other California¹ | 599 | OCA
CANADA | Other Canada¹ | 899 | OCN
| Port Edward | 802 | PRU
| Prince Rupert | 802 | PRU
OREGON | Astoria | 600 | AST
| Newport | 603 | NPT
| Other Oregon¹ | 699 | OOR
| Portland | 323 | POR
| Warrenton | 604 | WAR
WASHINGTON | Anacortes | 700 | ANA
| Bellingham | 702 | BEL
| Blaine | 717 | BLA
| Everett | 704 | EVT
| La Conner | 708 | LAC
| Olympia | 324 | OLY
| Other Washington¹ | 799 | OWA
| Seattle | 715 | SEA
| Tacoma | 325 | TAC
¹To report a landing at a location not currently assigned a location code number, use the code for “Other California,” “Other Oregon,” “Other Washington,” or Other Canada” at which the landing occurs.

PART 680—SHELLFISH FISHERIES OF THE EXCLUSIVE ECONOMIC ZONE OFF ALASKA

4. The authority citation for part 680 continues to read as follows:

Authority: 16 U.S.C. 1862.

§ 680.5 [Corrected]

5. Correct § 680.5 as follows:

a. Paragraph (a)(2)(i)(H), remove “§ 680.5(d)” and add in its place “§ 680.5(e)”;

b. Paragraph (a)(2)(i)(I), remove “§ 680.5(e)” and add in its place “§ 680.5(f)”;

c. Paragraph (a)(2)(i)(J), remove “§ 680.5(f)” and add in its place “§ 680.5(g)”;

d. Paragraph (b)(4), remove “paragraphs (c)(7), (c)(8), or (c)(9)” and add in its place “paragraphs (d)(7), (d)(8), or (d)(9)”;

e. Paragraphs (d)(5) and (d)(6), remove “paragraph (b)(5)” and add in its place “paragraph (b)(7)”;

f. Paragraph (d)(7)(vii), remove “paragraph (c)(11)” and add in its place “paragraph (d)(9)”;

g. Paragraph (d)(8), remove “paragraph (c)(7)” and add in its place “paragraph (d)(7)”; and

h. Paragraph (d)(9), remove “paragraph (c)(7)” and add in its place “paragraph (d)(7).”

§ 680.6 [Corrected]

6. Correct § 680.6 as follows:

a. Remove the phrase “whether OUR CRAB or THEIR CRAB,” from wherever it appears in the section; and

b. Paragraph (h)(4)(viii), remove “over all vessel activities” and add in its place “over all plant activities.”

§ 680.7 [Corrected]

7. Correct § 680.7 as follows:

a. Paragraph (c)(1), remove “BSAI crab” and add in its place “CR crab”;

b. Paragraph (c)(2), remove “IFQ crab” and add in its place “CR crab”; and

c. Remove paragraphs (e)(3) and (e)(4).

§ 680.20 [Corrected]

8. In § 680.20, paragraph (h)(4)(iv), remove “would be” and add in its place “will be.”

§ 680.21 [Corrected]

9. In § 680.21, paragraph (d)(1), remove “subsequent fishing season” and add in its place “current fishing season.”

§ 680.40 [Corrected]

10. Correct § 680.40 as follows:

a. Paragraphs (f)(3)(i) and (f)(3)(ii), remove “60 days prior to the end of the application period”; and

b. Paragraphs (h)(4) and (h)(5), remove “would be” and add in its place “will be.”

§ 680.42 [Corrected]

11. Correct § 680.42 as follows:

a. Paragraph (a)(2), remove “(b)(1)(ii)” and add in its place “(a)(1)(ii)” and remove “(b)(3)” and add in its place “(a)(3)”; and

b. Paragraph (a)(5), remove “paragraph (b)” and add in its place “paragraph (a).”

12. In § 680.42, revise paragraphs (a)(4)(iii), (b)(3)(iii), and (b)(3)(iv) to read as follows:

§ 680.42 Limitations on use of QS, PQS, IFQ, and IPQ.

(a) * * *

(4) * * *

(iii) A non-individual person that holds PQS, and all affiliates of that person, is limited to a QS and IFQ use cap that is calculated based on the sum of all QS or IFQ held by that PQS holder and all QS or IFQ held by any affiliate of the PQS holder.

* * * * *

(b) * * *

(3) * * *

(iii) A person that holds PQS is limited to a PQS use cap that is calculated based on the sum of all PQS held by that PQS holder and all QS or IFQ held by any affiliate of the PQS holder.

(iv) A person that holds IPQ is limited to an IPQ use cap that is calculated based on the sum of all IPQ held by that IPQ holder and all IPQ held by any affiliate of the IPQ holder.

* * * * *

13. Revise Table 7 to Part 680 to read as follows:

Table 7 to Part 680—Initial Issuance of Crab QS by Crab QS Fishery
Column A: Crab QS Fisheries | Column B: Qualifying Years for QS | Column C: Eligibility Years for CVC and CPC QS | Column D: Recent Participation Seasons for CVC and CPC QS | Column E: Subset of Qualifying Years
For each crab QS fishery the Regional Administrator shall calculate (see § 680.40(c)(2)): | QS for any qualified person based on that person's total legal landings of crab in each of the crab QS fisheries for any: | In addition, each person receiving CVC and CPC QS must have made at least one landing per year, as recorded on a State of Alaska fish ticket, in any three years during the base period described below: | In addition, each person receiving CVC or CPC QS, must have made at least one landing, as recorded on a State of Alaska fish ticket, in at least 2 of the last 3 fishing seasons in each of the crab QS fisheries as those seasons are described below: | The maximum number of qualifying years that can be used to calculate QS for each QS fishery is:
1. Bristol Bay red king crab (BBR) | 4 years of the 5-year QS base period beginning on: (1) November 1-5, 1996; (2) November 1-5, 1997; (3) November 1-6, 1998; (4) October 15-20, 1999; (5) October 16-20, 2000. | 3 years of the 5-year QS base period beginning on: (1) November 1-5, 1996; (2) November 1-5, 1997; (3) November 1-6, 1998; (4) October 15-20, 1999; (5) October 16-20, 2000. | (1) October 15-20, 1999. (2) October 16-20, 2000. (3) October 15-18, 2001. | 4 years
2. Bering Sea snow crab (BSS) | 4 years of the 5-year period beginning on: (1) January 15, 1996 through February 29, 1996; (2) January 15, 1997 through March 21, 1997; (3) January 15, 1998 through March 20, 1998; (4) January 15, 1999 through March 22, 1999; (5) April 1-8, 2000. | 3 years of the 5-year period beginning on: (1) January 15, 1996 through February 29, 1996; (2) January 15, 1997 through March 21, 1997; (3) January 15, 1998 through March 20, 1998; (4) January 15, 1999 through March 22, 1999; (5) April 1-8, 2000. | (1) April 1-8, 2000. (2) January 15, 2001 through February 14, 2001. (3) January 15, 2002 through February 8, 2002. | 4 years
3. Bering Sea Tanner crab (BST) | 4 of the 6 seasons beginning on: (1) November 15, 1991 through March 31, 1992; (2) November 15, 1992 through March 31, 1993; (3) November 1-10, 1993, and November 20, 1993 through January 1, 1994; (4) November 1-21, 1994; (5) November 1-16, 1995; (6) November 1-5, 1996 and November 15-27, 1996. | 3 of the 6 seasons beginning on: (1) November 15, 1991 through March 31, 1992; (2) November 15, 1992 through March 31, 1993; (3) November 1-10, 1993, and November 20, 1993 through January 1, 1994; (4) November 1-21, 1994; (5) November 1-16, 1995; (6) November 1-5, 1996 and November 15-27, 1996. | In any 2 of the last 3 seasons prior to June 10, 2002 in the Eastern Aleutian Island golden (brown) king crab, Western Aleutian Island golden (brown) king crab, Bering Sea snow crab, or Bristol Bay red king crab fisheries. | 4 years
4. Eastern Aleutian Islands golden king crab (EAG) | 5 years of the 5-year base period beginning on: (1) September 1, 1996 through December 25, 1996; (2) September 1, 1997 though November 24, 1997; (3) September 1, 1998 through November 7, 1998; (4) September 1, 1999 through October 25, 1999; (5) August 15, 2000 through September 24, 2000. | 3 years of the 5-year base period beginning on: (1) September 1, 1996 through December 25, 1996; (2) September 1, 1997 though November 24, 1997; (3) September 1, 1998 through November 7, 1998; (4) September 1, 1999 through October 25, 1999; (5) August 15, 2000 through September 24, 2000. | (1) September 1 1999 through October 25, 1999. (2) August 15, 2000 through September 24, 2000. (3) August 15, 2001 through September 10, 2001. | 5 years
5. Pribilof red king and blue king crab (PIK) | 4 years of the 5-year period beginning on: (1) September 15- 21, 1994; (2) September 15-22, 1995; (3) September 15-26, 1996; (4) September 15-29, 1997; (5) September 15-28, 1998. | 3 years of the 5-year period beginning on: (1) September 15-21, 1994; (2) September 15-22, 1995; (3) September 15-26, 1996; (4) September 15-29, 1997; (5) September 15-28, 1998. | In any 2 of the last 3 seasons prior to June 10, 2002 in the Eastern Aleutian Island golden (brown) king crab, Western Aleutian Island golden (brown) king crab, Bering Sea snow crab, or Bristol Bay red king crab fisheries, except that persons applying for an allocation to receive QS based on legal landings made aboard a vessel less than 60 feet (18.3 m) LOA at the time of harvest are exempt from this requirement. | 4 years
6. St. Matthew blue king crab (SMB) | 4 years of the 5-year period beginning on: (1) September 15-22, 1994; (2) September 15-20, 1995; (3) September 15-23, 1996; (4) September 15-22, 1997; (5) September 15-26, 1998. | 3 years of the 5-year period beginning on: (1) September 15-22, 1994; (2) September 15-20, 1995; (3) September 15-23, 1996; (4) September 15-22, 1997; (5) September 15-26, 1998. | In any 2 of the last 3 seasons prior to June 10, 2002 in the Eastern Aleutian Island golden (brown) king crab, Western Aleutian Island golden (brown) king crab, Bering Sea snow crab, or Bristol Bay red king crab fisheries. | 4 years
7. Western Aleutian Islands brown king crab (WAG) | 5 of the 5 seasons beginning on: (1) September 1, 1996 through August 31, 1997; (2) September 1, 1997 though August 31, 1998; (3) September 1, 1998 through August 31, 1999; (4) September 1, 1999 through August 14, 2000; (5) August 15, 2000 through May 28, 2001. | 3 of the 5 seasons beginning on: (1) September 1, 1996 through August 31, 1997; (2) September 1, 1997 though August 31, 1998; (3) September 1, 1998 through August 31, 1999; (4) September 1, 1999 through August 14, 2000; (5) August 15, 2000 through May 28, 2001. | (1) September 1 1999 through August 14, 2000. (2) August 15, 2000 through May 28, 2001. (3) August 15 2001 through March 30, 2002. | 5 years
8. Western Aleutian Islands red king crab (WAI) | 3 of the 4 seasons beginning on: (1) November 1, 1992 through January 15, 1993; (2) November 1, 1993 through February 15, 1994; (3) November 1-28, 1994; (4) November 1, 1995 through February 13, 1996. | 3 of the 4 seasons beginning on: (1) November 1, 1992 through January 15, 1993; (2) November 1, 1993 through February 15, 1994; (3) November 1-28, 1994; (4) November 1, 1995 through February 13, 1996. | In any 2 of the last 3 seasons prior to June 10, 2002 in the Eastern Aleutian Island golden (brown) king crab, Western Aleutian Island golden (brown) king crab, Bering Sea snow crab, or Bristol Bay red king crab fisheries. | 3 years

14. In part 680, revise Table 9 to Part 680 to read as follows:

Table 9 to Part 680—Initial Issuance of Crab PQS by Crab QS Fishery
Column A: For each crab QS fishery | Column B: The Regional Administrator shall calculate PQS for any qualified person based on that person's total legal purchase of crab in each of the crab QS fisheries for any...
Bristol Bay red king crab (BBR) | 3 years of the 3-year QS base period beginning on: (1) November 1-5, 1997; (2) November 1-6, 1998; and (3) October 15-20, 1999.
Bering Sea snow crab (BSS) | 3 years of the 3-year period beginning on: (1) January 15, 1997 through March 21, 1997; (2) January 15, 1998 through March 20, 1998; and (3) January 15, 1999 through March 22, 1999.
Bering Sea Tanner crab (BST) | Equivalent to 50 percent of the total legally processed crab in the Bering Sea snow crab fishery during the qualifying years established for that fishery, and 50 percent of the totally legally processed crab in the Bristol Bay red king crab fishery during the qualifying years established for that fishery.
Eastern Aleutian Islands golden king crab (EAG) | 4 years of the 4-year base period beginning on: (1) September 1, 1996 through December 25, 1996; (2) September 1, 1997 though November 24, 1997; (3) September 1, 1998 through November 7, 1998; and (4) September 1, 1999 through October 25, 1999.
Pribilof Islands red and blue king crab (PIK) | 3 years of the 3-year period beginning on: (1) September 15-26, 1996; (2) September 15-29, 1997; and (3) September 15-28, 1998.
St. Matthew blue king crab (SMB) | 3 years of the 3-year period beginning on: (1) September 15- 23, 1996; (2) September 15-22, 1997; and (3) September 15-26, 1998.
Western Aleutian Islands golden king crab (WAG) | 4 years of the 4-year base period beginning on: (1) September 1, 1996 through August 31, 1997; (2) September 1, 1997 though August 31, 1998; (3) September 1, 1998 through August 31, 1999; and (4) September 1, 1999 through August 14, 2000.
Western Aleutian Islands red king crab (WAI) | Equivalent to the total legally processed crab in the Western Aleutian Islands golden (brown) king crab fishery during the qualifying years established for that fishery.

[FR Doc. 05-11392 Filed 6-7-05; 8:45 am]

BILLING CODE 3510-22-S